DEPARTMENT OF TRANSPORTATION

National Highway Traffic Safety Administration

[Docket No. NHTSA 2002-13355; Notice 1]

Bridgestone/Firestone; Receipt of Application for Decision of Inconsequential Noncompliance

Bridgestone/Firestone has determined that approximately 4,700 P235/75R15 Dayton Timberline A/T tires do not meet the labeling requirements mandated by Federal Motor Vehicle Safety Standard (FMVSS) No. 109, “New Pneumatic Tires.” Pursuant to 49 U.S.C. 30118(d) and 30120(h), Bridgestone/Firestone has petitioned for a determination that this noncompliance is inconsequential to motor vehicle safety and has filed an appropriate report pursuant to 49 CFR Part 573, “Defect and Noncompliance Reports.”

This notice of receipt of an application is published under 49 U.S.C. 30118 and 30120 and does not represent any agency decision or other exercise of judgment concerning the merits of the application.

The Sao Paulo, Brazil plant produced these noncompliant tires during the week 40 through and including week 49 of the year 2001. The subject tires were mismarked as “Extra Load.” The actual markings on the subject tires are:

Max load 920 Kg (2028 lbs.) at 300 kPa (44 psi) max press, Extra Load. The correct markings should be:

Max load 920 Kg (2028 lbs.) at 300 kPa (44 psi) max press.

Bridgestone/Firestone believes that the noncompliance is inconsequential to motor vehicle safety for the following reasons:

1. The subject tires with the exception of the “Extra Load” marking meet all the requirements of 49 CFR Section 571.109.

2. The subject tires were tested by Bridgestone/Firestone and meet the requirements of high speed, endurance, strength, and bead unseat as defined in 49 CFR Section 571.109 for the “Extra Load” designation.

3. The subject tires as shipped from the manufacturing plant were identified by tire labels and article number as standard load. Thus, the potential for sale of these tires as “Extra Load” is very small.

Bridgestone/Firestone submits that mismarking of the subject tires should be deemed inconsequential to motor vehicle safety.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: November 6, 2002.

(49 U.S.C. 301118, 301120; delegations of authority at 49 CFR 1.50 and 501.8)
Issued on October 1, 2002.
Stephen R. Kratzke,
Associate Administrator for Rulemaking.

[FR Doc. 02-25408 Filed 10-4-02; 8:45 am]

BILLING CODE 4910-59-P